DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them. Additionally, OFAC is publishing an update to the identifying information of persons currently included in the list of Specially Designated Nationals and Blocked Persons.

DATES: See SUPPLEMENTARY INFORMATION section.

FOR FURTHER INFORMATION CONTACT:

OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On December 22, 2017, OFAC determined that the property and interests in property subject to U.S. jurisdiction of the following persons are blocked under the relevant sanctions authority listed below.

Individuals

1. PICHUGIN, Yuri Viktorovich (Cyrillic: ПИЧУГИН, ЮРИЙ ВИКТОРОВИЧ) (a.k.a. PICHUGIN, Yuriy; a.k.a. PICHUGIN, Yury; a.k.a. “PICHUGA” (Cyrillic: “ПИЧУГА”); a.k.a. “VLADIMIR BILIY”; a.k.a. “VOLODYMYR BILYY”), 2/1 Geroyev Panfilovtsev Street, Moscow, Russia; Barviha Hills, Moscow, Russia; DOB 18 Oct 1965; POB Azanka, Tavdinsky District, Sverdlovsk Oblast, Russia; nationality Russia; Gender Male; Passport 618684 (individual) [TCO] (Linked To: THIEVES-IN-LAW). Designated pursuant to section 1(a)(ii)(C) of E.O. 13581 for acting for or on behalf of the THIEVES-IN-LAW.

2. TATULIAN, Ruben Albertovich (Cyrillic: ТАТУЛЯН, РУБЕН АЛЬБЕРТОВИЧ) (a.k.a. CHOLOKYAN, Roberto; a.k.a. KARAKEYAN, Roberto Albertovich; a.k.a. KARAKEYAN, Ruben Albertovich; a.k.a. TATULYAN, Ruben Albertovich; a.k.a. “ROBIK”; a.k.a. “ROBSON” (Cyrillic: “РОБСОН”)), Trident Grand Residence, Unit 604, Dubai Marina, Dubai 93743, United Arab Emirates; DOB 08 Dec 1969; POB Sochi, Russia; Gender Male; Passport 710091868 (Russia); Tax ID No. 231704411067 (Russia); Identification Number 312236712500061 (Russia); alt. Identification Number 0184214173 (Russia) (individual) [TCO] (Linked To: VESNA HOTEL AND SPA; Linked To: NOVYI VEK—MEDIA; Linked To: THIEVES-IN-LAW). Designated pursuant to section 1(a)(ii)(B) of E.O. 13581 for having materially assisted, sponsored, or provided financial, material, or technological support for, or goods or services to or in support of, the THIEVES-IN-LAW.

3. TOKHTAKHUNOV, Alimzhan Tursunovich (Cyrillic: ТОХТАХУНОВ, АЛИМЖАН ТУРСУНОВИЧ) (a.k.a. TAKHTAKHUNOV, Alimzhan Ursulovich; a.k.a. TOCHTACHUNOV, Alizam; a.k.a. TOHTAHUNOV, Olimjon; a.k.a. TOKHTAKHOUNOV, Alimjan; a.k.a. TOKHTAKHOUNOV, Alim-Jean; a.k.a. TOKHTAKHOUNOV, Alimzhan Tursunovich; a.k.a. TOKHTAKHOUNOV, Alinkhan; a.k.a. TOKHTAKHUNOV, Alimajan; a.k.a. TOKHTAKHUNOV, Alimkan; a.k.a. TOKHTAKHUNOV, Alimkhan; a.k.a. TOKHTAKHUNOV, Alimzan; a.k.a. TOKHTAKHUNOV, Alimzhon Tursonovich; a.k.a. TOKHTAKHUNOV, Alinjan; a.k.a. TOKHTAKHUNOV, Alinkhan; a.k.a. TOKHTAKHUNOV, Alizman; a.k.a. TOKHTAKOUNOV, Alinkhan; a.k.a. “ALIK TAYVANCHIK”; a.k.a. “LITTLE TAIWANESE”; a.k.a. “TAIVANCHIK”; a.k.a. “TAIWANCHIK”; a.k.a. “TAYVANCHIK”; a.k.a. “TAYVANIK”; a.k.a. “TONTARHOVNOV, A.”), Peredelkino, Moscow, Russia; DOB 01 Jan 1949; alt. DOB 31 Dec 1949; POB Tashkent, Uzbekistan; alt. POB Israel; Gender Male; Passport 4507000833 (Russia); alt. Passport 50465506 (Russia); alt. Passport 5981915 (Israel); Tax ID No. 770465002364 (Russia); Identification Number 313617722 (Israel); alt. Identification Number TKHLZH49T31Z154A (Italy); alt. Identification Number 304770000196297 (Russia) (individual) [TCO] (Linked To: THIEVES-IN-LAW). Designated pursuant to section 1(a)(ii)(B) of E.O. 13581 for having materially assisted, sponsored, or provided financial, material, or technological support for, or goods or services to or in support of, the THIEVES-IN-LAW.

4. TYURIN, Vladimir Anatolyevich (Cyrillic: ТЮРИН, ВЛАДИМИР АНАТОЛЬЕВИЧ) (a.k.a. GROMOV, Vladimir Pavlovich (Cyrillic: ГРОМОВ, ВЛАДИМИР ПАВЛОВИЧ); a.k.a. PUGACHEV, Aleksei Vladimirovich (Cyrillic: ПУГАЧЕВ, АЛЕКСЕЙ ВЛАДИМИРОВИЧ); a.k.a. PUGACHEV, Alexei Pavlovich; a.k.a. PUGACHEV, Alexey; a.k.a. TIORINE, Vladimir; a.k.a. TIOURINE, Vladimir; a.k.a. TIURIN, Vladimir; a.k.a. TIURINE, Vladimir; a.k.a. TJRURIN, Vladimir; a.k.a. TJURIN, Wladimir; a.k.a. TURIN, Anatolievich; a.k.a. TURIN, Vladimir; a.k.a. TURIYAN, Vladimir; a.k.a. TYURIN, Anatoly; a.k.a. TYURIN, Vladimir Anatolievich; a.k.a. TYURIN, Volodya; a.k.a. TYURINE, Anatoly; a.k.a. TYURINE, Vladimir; a.k.a. “TIURIK”; a.k.a. “TYURIK” (Cyrillic: “ТЮРИК”); a.k.a. “TYURYA”), Moscow, Russia; DOB 25 Nov 1958; alt. DOB 20 Dec 1958; POB Tirlyan, Beloretskiy Rayon, Bashkiria, Russia; alt. POB Irkutsk, Russia; alt. POB Bratsk, Russia; citizen Russia; alt. citizen Kazakhstan; Gender Male; Passport EA804478 (Belgium); alt. Passport 432062125 (Russia); alt. Passport 410579055 (Russia); alt. Passport 4511264874 (Russia) (individual) [TCO] (Linked To: THIEVES-IN-LAW). Designated pursuant to section 1(a)(ii)(C) of E.O. 13581 for acting for or on behalf of the THIEVES-IN-LAW.

Entities

1. THIEVES-IN-LAW (a.k.a. KANONIERI KURDEBI; a.k.a. KANONIERI QURDEBI; a.k.a. KANONIERI QURDI; a.k.a. RAMKIANI QURDEBI; a.k.a. RAMKIANI QURDI; a.k.a. SINIE; a.k.a. THIEF-IN-LAW; a.k.a. THIEVES PROFESSING THE CODE; a.k.a. THIEVES-WITHIN-THE-LAW; a.k.a. VOR V ZAKONYE; a.k.a. VOR-V-ZAKONE (Cyrillic: ВОР В ЗАКОНЕ); a.k.a. VORY V ZAKONI; a.k.a. VORY V ZAKONYE; a.k.a. VORY-V-ZAKONE (Cyrillic: ВОРЫ В ЗАКОНЕ); a.k.a. VOR-ZAKONNIK; a.k.a. ZAKONNIK (Cyrillic: ЗАКОННИК)), Europe; Former Soviet Union; United States [TCO]. Designated pursuant to section 1(a)(ii)(A) of E.O. 13581 because it is a foreign person that constitutes a significant transnational criminal organization.

2. NOVYI VEK—MEDIA (a.k.a. NOVY VEK-MEDIA OOO), Ul. Demokraticheskaya, D. 52, Sochi 354340, Russia; Registration ID 1092367003849 (Russia); Tax ID No. 2317054915 (Russia); Identification Number 64022275 (Russia) [TCO]. Designated pursuant to section 1(a)(ii)(C) of E.O. 13581 for being owned or controlled by Ruben Albertovich TATULIAN.

3. VESNA HOTEL AND SPA (f.k.a. OAO KOTEHK VESNA; a.k.a. ZAO SPA-OTEL VESNA (Cyrillic: ЗАО СПА-ОТЕЛЬ ВЕСНА)), Ul. Lenina, D. 219A, Sochi 354364, Russia; Registration ID 1022302715214 (Russia); Tax ID No. 2317011051 (Russia); alt. Tax ID No. 231701001 (Russia); Identification Number 04816460 (Russia) [TCO]. Designated pursuant to section 1(a)(ii)(C) of E.O. 13581 for being owned or controlled by Ruben Albertovich TATULIAN.

Additionally, on December 22, 2017, OFAC updated the SDN List for the following persons, whose property and interests in property continue to be blocked under E.O. 13581.

Individuals

1. KALASHOV, Zakhary Knyazevich (a.k.a. KALACHOV, Zakhar; a.k.a. KALASCHOV, Sachary Knyasevich; a.k.a. KALASCHOW, Zachari; a.k.a. KALASH, Zakhary; a.k.a. KALASHOV, Sergio; a.k.a. KALASHOV, Zachari; a.k.a. KALASHOV, Zahar; a.k.a. KALASHOV, Zahariy; a.k.a. KALASHOV, Zajar; a.k.a. KALASHOV, Zakaria Kniaz; a.k.a. KALASHOV, Zakhar; a.k.a. KALASHOV, Zakhar Kniezivich; a.k.a. KALASHOV, Zakhari; a.k.a. KALASHOV, Zakhariy; a.k.a. KALASIIOV, Zakhariy Kniazevich; a.k.a. KALASOV, Zacharias; a.k.a. KALASOV, Zaxar; a.k.a. “SHAKRO JUNIOR”; a.k.a. “SHAKRO KURTI”; a.k.a. “SHAKRO MALADOI”; a.k.a. “SHAKRO MOLODOY”; a.k.a. “SHAKRO THE YOUNG”), General Tyulenev Street, 7, Building 2, Apartment 277, Moscow, Russia; Varketili Masivi, 4th Block, 1st Building, Flat #30, Tbilisi, Georgia; DOB 20 Mar 1953; POB Tbilisi, Georgia; citizen Georgia; alt. citizen Russia; Passport 60-4145924 (Russia); alt. Passport 60-4145934 (Russia) (individual) [TCO].

2. KOLBAYEV, Kamchybek Asanbekovich (a.k.a. KOLBAEV, Kamchibek; a.k.a. KOLBAYEV, Kamchi; a.k.a. KOLBAYEV, Kamchibek; a.k.a. KOLBAYEV, Kamchy; a.k.a. “KAMCHI BISHKEKSKIY”; a.k.a. “KOLYA-KYRGYZ”); DOB 3 Aug 1974; alt. DOB 1 Jan 1973; POB Cholpon-Ata, Kyrgyzstan; citizen Kyrgyzstan; Passport A0832532 (Kyrgyzstan) expires 17 Mar 2009 (individual) [SDNTK] [TCO]

3. KHRISTOFOROV, Vasily Alexandrovich (a.k.a. KHRISTOFOROV, Vasiliy; a.k.a. “VASYA”; a.k.a. “VOSKRES”), Murjan 6 Sector, Tower D01-T03.1, Apartment 401, Dubai 39409, United Arab Emirates; DOB 12 Mar 1972; POB Gorky Oblast, Russia; National ID No. 76481815 (United Arab Emirates); Passport 63-7186356 (Russia) (individual) [TCO]

4. LEONTYEV, Vladislav Vladimirovich (a.k.a. LEONTIEV, Vladislav; a.k.a. LEONTIEV, Vlantislav; a.k.a. LEONTYEV, Vyacheslav; a.k.a. LEONTYEV, Vadim; a.k.a. LEONTYEV, Vadik; a.k.a. “BELOBRYSYY”; a.k.a. “BELYY”), Al-Fattan Building, Dubai, United Arab Emirates; DOB 5 Jul 1971; POB Gorky, Russia; alt. POB Caracas, Venezuela; National ID No. 60229551 (United Arab Emirates); Passport AB4065216 (Greece); alt. Passport H2214925 (Ghana); alt. Passport C1602418 (Venezuela) (individual) [TCO]

5. RAKHIMOV, Gafur Akhmedovich (a.k.a. RAKHIMOV, Gofur-Arslonbek; a.k.a. RAKHIMOV, Gafur-Arslanbek Akhmedovich), The Meadows, Villa Number 64, Sheikh Zayed Road, near Emirates Hills, Dubai, United Arab Emirates; DOB 22 Jul 1951; POB Tashkent, Uzbekistan; National ID No. 03101200302034752 (United Arab Emirates); Passport CA1804389 (Uzbekistan); alt. Passport CA1890392 (Uzbekistan) (individual) [TCO]

6. SHUSHANASHVILI, Lasha Pavlovich (a.k.a. MALGASOV, Ymar; a.k.a. SHUSHANASHVILI, Iasha Pavlovich; a.k.a. “LASHA RUSTAVSKI”; a.k.a. “LASHA RUSTAVSKY”; a.k.a. “LASHA TOLSTY”); DOB 25 Jul 1961; POB Rustavi, Georgia; nationality Georgia (individual) [TCO].

The listings for these previously designated persons now appear as follows:

Individuals

1. KALASHOV, Zakhary Knyazevich (Cyrillic: КАЛАШОВ, ЗАХАРИЙ КНЯЗЕВИЧ) (a.k.a. KALACHOV, Zakhar; a.k.a. KALASCHOV, Sachary Knyasevich; a.k.a. KALASCHOW, Zachari; a.k.a. KALASH, Zakhary; a.k.a. KALASHOV, Sergio; a.k.a. KALASHOV, Zachari; a.k.a. KALASHOV, Zahar; a.k.a. KALASHOV, Zajar; a.k.a. KALASHOV, Zakaria; a.k.a. KALASHOV, Zakhar; a.k.a. KALASHOV, Zakhar Kniezivich; a.k.a. KALASHOV, Zakhary; a.k.a. KALASIIOV, Zakhariy Kniazevich; a.k.a. KALASOV, Zacharias; a.k.a. KALASOV, Zaxar; a.k.a. “SHAKRO JR.”; a.k.a. “SHAKRO KURD” (Cyrillic: “ШАКРО КУРД”); a.k.a. “SHAKRO KURTI”; a.k.a. “SHAKRO MALADOI”; a.k.a. “SHAKRO MOLODOY”; a.k.a. “SHAKRO YOUNG”), General Tyulenev Street, 7, Building 2, Apartment 277, Moscow, Russia; Nikolina Gora, Odintsovo, Moscow, Russia; DOB 20 Mar 1953; POB Tbilisi, Georgia; nationality Georgia; alt. nationality Russia; Gender Male; Passport 604145924 (Russia); alt. Passport 604145934 (Russia) (individual) [TCO] (Linked To: THIEVES-IN-LAW). Designated pursuant to section 1(a)(ii)(C) of E.O. 13581 for acting for or on behalf of the THIEVES-IN-LAW.

2. KOLBAYEV, Kamchybek Asanbekovich (a.k.a. ASANBEK, Kamchi; a.k.a. ASANBEK, Kamchy; a.k.a. KAMCHI, Asanbeka; a.k.a. KOLBAEV, Kamchi; a.k.a. KOLBAEV, Kamchibek; a.k.a. KOLBAYEV, Kamchi (Cyrillic: КОЛЬБАЕВ, КАМЧЫ); a.k.a. KOLBAYEV, Kamchibek (Cyrillic: КОЛЬБАЕВ, КАМЧИБЕК); a.k.a. KOLBAYEV, Kamchy; a.k.a. “KAMCHI BISHKEKSKIY” (Cyrillic: “КАМЧИ БИШКЕКСКИЙ”); a.k.a. “KOLYA-KYRGYZ”), Bahar 1 Sector, C09-T02 Tower, Apartment 3203, Dubai 31672, United Arab Emirates; Murjan 6, Jumeirah Beach Residences, Dubai, United Arab Emirates; DOB 03 Aug 1974; alt. DOB 01 Jan 1973; POB Cholpon-Ata, Kyrgyzstan; nationality Kyrgyzstan; Gender Male; Passport AC2499982 (Kyrgyzstan); alt. Passport AC732709 (Kyrgyzstan); Identification Number 20308197410028 (Kyrgyzstan); alt. Identification Number 1002001 (Kyrgyzstan) (individual) [SDNTK] [TCO] (Linked To: THIEVES-IN-LAW). Designated pursuant to section 1(a)(ii)(C) of E.O. 13581 for acting for or on behalf of the THIEVES-IN-LAW.

3. KHRISTOFOROV, Vasiliy Aleksandrovich (Cyrillic: ХРИСТОФОРОВ, ВАСИЛИЙ АЛЕКСАНДРОВИЧ) (a.k.a. KHRISTOFOROV, Vasili; a.k.a. “VASYA VOSKRES”; a.k.a. “VOSKRES” (Cyrillic: “ВОСКРЕС”)), Murjan 6 Sector, Tower D01-T03.1, Apartment 401, Dubai 39409, United Arab Emirates; 19 Berezovaya St., Apt. 152, Nizhny Novgorod, Russia; 2 Kommunalnaya Street, Vryazino, Shchelkovsky, Moscow, Russia; Apartment 2, House 4, Komsomolskaya Street, Fryazino Settlement, Moscow, Russia; DOB 12 Mar 1972; POB Dzerzhinsk, Nizhny Novgorod, Russia; nationality Russia; Gender Male; Passport 637186356 (Russia); alt. Passport 530266990 (Russia); alt. Passport 1175427; National ID No. 76481815 (United Arab Emirates); alt. National ID No. 2202546110 (Russia) (individual) [TCO] (Linked To: THIEVES-IN-LAW). Designated pursuant to section 1(a)(ii)(C) of E.O. 13581 for acting for or on behalf of the THIEVES-IN-LAW.

4. LEONTYEV, Vladislav Vladimirovich (Cyrillic: ЛЕОНТЬЕВ, ВЛАДИСЛАВ ВЛАДИМИРОВИЧ) (a.k.a. LEONTIEV, Vladislav; a.k.a. LEONTIEV, Vlantislav; a.k.a. LEONTJEVAS, Vladislavas; a.k.a. LEONTYEV, Vadik; a.k.a. LEONTYEV, Vadim; a.k.a. LEONTYEV, Vyacheslav; a.k.a. “BELOBRYSYY”; a.k.a. “BELYY”; a.k.a. “VADIK BELEY”; a.k.a. “VADIK BELYY” (Cyrillic: “ВАДИК БЕЛЫЙ”); a.k.a. “VADIM BELYY”), Al Fattan Marina Tower, #901, Dubai Marina, Dubai, United Arab Emirates; Nizhny Novgorod 6th District, #1A, Russia; Mikrorayon 6, 1/A-81, Avtozavodsky District, Nizhny Novgorod, Russia; DOB 05 Jul 1971; POB Nizhny Novgorod, Russia; nationality Russia; Gender Male; Passport 515731854 (Russia); alt. Passport 2200319927 (Russia); alt. Passport AK0517906 (Greece); alt. Passport H2214925 (Ghana); alt. Passport 326106; alt. Passport 1602418; alt. Passport 20382107; Identification Number 60229551 (United Arab Emirates) (individual) [TCO] (Linked To: THIEVES-IN-LAW). Designated pursuant to section 1(a)(ii)(C) of E.O. 13581 for having acted or purported to act for or on behalf of the THIEVES-IN-LAW.

5. RAKHIMOV, Gafur-Arslanbek Akhmedovich (Cyrillic: РАХИМОВ, ГАФУР-АРСЛАНБЕК АХМЕДОВИЧ) (a.k.a. RAKHIMOV, Gafur Akhmedovich; a.k.a. RAKHIMOV, Gafur Arslanbek; a.k.a. RAKHIMOV, Ghafur Arslambek; a.k.a. RAKHIMOV, Gofur-Arslonbek; a.k.a. RAKHIMOV, Gofur-Arslonbek Akhmedovich), The Meadows, Villa Number 64, Sheikh Zayed Road, near Emirates Hills, Dubai, United Arab Emirates; Leninsky Prospekt, 128-1-125, Moscow, Russia; DOB 22 Jul 1951; POB Tashkent, Uzbekistan; Gender Male; Passport 645720381 (Russia); alt. Passport CA1804389 (Uzbekistan); alt. Passport CA1601000 (Uzbekistan); alt. Passport CA1521130 (Uzbekistan); alt. Passport CA1581065 (Uzbekistan); alt. Passport CA0960250 (Uzbekistan); National ID No. 03101200302034752 (United Arab Emirates); alt. National ID No. 4511669324 (Russia) (individual) [TCO] (Linked To: THIEVES-IN-LAW). Designated pursuant to section 1(a)(ii)(B) of E.O. 13581 for having materially assisted, sponsored, or provided financial, material, or technological support for, or goods or services to or in support of, the THIEVES-IN-LAW.

6. SHUSHANASHVILI, Lasha Pavlovich (Cyrillic: ШУШАНАШВИЛИ, ЛАША ПАВЛОВИЧ) (a.k.a. MALGASOV, Ymar; a.k.a. SHUSHANASHVILI, Iasha Pavlovich; a.k.a. “LASHA RUSTAVSKI”; a.k.a. “LASHA RUSTAVSKIY” (Cyrillic: “ЛАША РУСТАВСКИЙ”); a.k.a. “LASHA RUSTAVSKY”; a.k.a. “LASHA TOLSTIY”; a.k.a. “LASHA TOLSTY”), Greece; DOB 25 Jul 1961; POB Rustavi, Georgia; nationality Georgia; Gender Male; Passport 5752452 (individual) [TCO] (Linked To: THIEVES-IN-LAW). Designated pursuant to section 1(a)(ii)(C) of E.O. 13581 for acting for or on behalf of the THIEVES-IN-LAW.

Dated: December 22, 2017.
John E. Smith,
Director, Office of Foreign Assets Control.

[FR Doc. 2017-28030 Filed 12-27-17; 8:45 am]

BILLING CODE 4810-AL-P